DEPARTMENT OF COMMERCE

Foreign-Trade Zones Board

[Order No. 1863]

Reorganization/Expansion of Foreign-z Under Alternative Site Framework; Galveston, TX

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Board of Trustees of the Galveston Wharves, grantee of Foreign-Trade Zone 36, submitted an application to the Board (FTZ Docket B-41-2012, filed 05/22/2012) for authority to reorganize under the ASF with a service area of Galveston County, Texas, within and adjacent to the Houston Customs and Border Protection port of entry, expand existing Site 2 to restore to zone status 76 acres, FTZ 36's Sites 1, 2 (as modified) and 3 would be categorized as magnet sites and Sites 4, 5 and 6 would be categorized as usage-driven sites;

Whereas, notice inviting public comment was given in the Federal Register (77 FR 31308, 05/25/2012) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize and expand FTZ 36 under the alternative site framework is approved, subject to the FTZ Act and the Board's regulations, including Section 400.13, to the Board's standard 2,000-acre activation limit for the zone, to ASF sunset provisions for magnet sites that would terminate authority for Site 2 if not activated by October 31, 2022, and for Site 3 if not activated by October 31, 2017, and to a three-year ASF sunset provision for usage-driven sites that would terminate authority for Sites 4, 5 and 6 if no foreign-status merchandise is admitted for a bona fide customs purpose by October 31, 2015.

Signed at Washington, DC, this 18th day of October 2012.
Paul Piquado,
Assistant Secretary of Commerce for Import Administration, Alternate Chairman, Foreign-Trade Zones Board.
Attest:
Elizabeth Whiteman,
Acting Executive Secretary.

[FR Doc. 2012-26419 Filed 10-25-12; 8:45 am]

BILLING CODE 3510-DS-P